DEPARTMENT OF HEALTH AND HUMAN SERVICES

Statement of Delegation of Authority; Health Resources and Services Administration and Centers for Disease Control and Prevention

I hereby delegate to the Administrator, Health Resources and Services Administration (HRSA), and the Director, Centers for Disease Control and Prevention (CDC), with authority to redelegate, the authority vested in the Secretary of the Department of Health and Human Services under Title III, Part R, Section 399BB, titled “Autism, Education, Early Detection, and Intervention,” of the Public Health Service (PHS) Act, as amended, insofar as such authority pertains to the functions of HRSA and CDC, respectively. HRSA and CDC will coordinate and collaborate with each other, with the National Institutes of Health (NIH), and with the Administration for Children and Families (ACF), as appropriate, in implementing this authority. In addition, nothing in this delegation of authority would preclude NIH from pursuing research and training activities authorized by the PHS Act. HRSA and CDC will also coordinate and collaborate with other agencies, as appropriate, in implementing this authority.

This delegation excludes the authority to issue regulations, to establish advisory committees and councils and appoint their members, and shall be exercised in accordance with the Department's applicable policies, procedures, and guidelines.

I hereby affirm and ratify any actions taken by the Administrator, HRSA, the Director, CDC, or other HRSA and CDC officials, which involve the exercise of these authorities prior to the effective date of this delegation.

This delegation is effective upon date of signature.

Dated: February 22, 2013.
Kathleen Sebelius,
Secretary.

[FR Doc. 2013-04946 Filed 3-4-13; 8:45 am]

BILLING CODE 4165-15-P